DEPARTMENT OF THE INTERIOR

Bureau of Land Management

[MT-100-1430-EU; MTM 95676]

Notice of Realty Action; (Non-Competitive) Direct Sale of Public Land; Granite County, MT

AGENCY: Bureau of Land Management, Interior.

ACTION: Notice of realty action.

SUMMARY: A 1.08-acre parcel of public land in Granite County, Montana, is being considered for sale under the provisions of the Federal Land Policy Management Act of 1976 (FLPMA), at no less than the appraised fair market value, to resolve a longstanding, inadvertent unauthorized use.

DATES: Interested parties may submit comments regarding the proposed sale until March 3, 2008.

ADDRESSES: Send written comments to the Missoula Field Manager, BLM, Missoula Field Office, 3255 Ft. Missoula Road, Missoula, Montana 59804-7293.

FOR FURTHER INFORMATION CONTACT: Jim Ledger, Realty Specialist, at the above address or phone (406) 329-3914.

SUPPLEMENTARY INFORMATION: The following described public land is being considered for possible disposal by direct sale under Sections 203 and 209 of FLPMA, 43 U.S.C. 1713 and 1719.

Principal Meridian, Montana

T. 12 N., R. 14 W.

Sec. 15, lot 17.

The area described contains 1.08 acres, more or less, in Granite County, Montana.

The parcel will be offered by direct sale at no less than the appraised fair market value of $5,800 to Robert C. Nylund and Sandra J. Nylund. The Nylunds are the owners of an adjoining parcel and improvements which lie partially on the subject parcel. The sale meets the disposal criteria in Section 203(a)(3) of FLPMA and 43 CFR 2710.0-3(a)(2). Sale of the parcel also conforms to the criteria of the Garnet Resource Management Plan (RMP) approved January 10, 1986. Disposal by direct sale will protect existing equities in the land and resolve the longstanding, inadvertent unauthorized occupancy of the parcel and is provided for in 43 CFR 2710.0-6(c)(3)(iii).

As proposed, the land will be conveyed subject to:

1. A right-of-way for ditches and canals reserved by the United States pursuant to the Act of August 30, 1890 (43 U.S.C. 945);

2. All valid existing rights.

The land will not be offered for sale until at least 60 days after the date of publication in the Federal Register. Unreserved mineral interests will be conveyed simultaneously with the sale of the land. These unreserved mineral interests have been determined to have no known mineral value pursuant to 43 CFR 2720.2(a). Acceptance of the sale offer will constitute an application for conveyance of those unreserved mineral interests.

On January 18, 2008, the above-described land will be segregated from appropriation under the public land laws, including the mining laws, except the sale provisions of the FLPMA. Until completion of the sale, the BLM is no longer accepting land use applications affecting the identified public land. The segregative effect will terminate upon issuance of a patent, publication in the Federal Register of a termination of the segregation, or January 19, 2010, unless extended by the BLM State Director in accordance with 43 CFR 2711.1-2(d) prior to the termination date.

To be considered, comments must be received at the BLM Missoula Field Office on or before March 3, 2008. Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager, BLM Missoula Field Office will be considered properly filed. E-mail, facsimile or telephone comments will not be considered properly filed.

(Authority: 43 CFR 2711.1-2)
Dated: January 9, 2008.
Nancy T. Anderson,
Field Manager.

[FR Doc. 08-149 Filed 1-17-08; 8:45 am]

BILLING CODE 4310-$$-M